DEPARTMENT OF THE INTERIOR

Bureau of Indian Affairs

Land Acquisitions; Suquamish Indian Tribe, Washington

AGENCY: Bureau of Indian Affairs, Interior.

ACTION: Notice of final agency determination.

SUMMARY: The Assistant Secretary—Indian Affairs made a final agency determination to acquire an approximately 6.67-acre tract of land into trust for the Suquamish Indian Tribe of Washington on November 10, 2010.

FOR FURTHER INFORMATION CONTACT: Paula L. Hart, Director, Office of Indian Gaming, MS-3657 MIB, 1849 C Street, NW., Washington, DC 20240; Telephone (202) 219-4066.

SUPPLEMENTARY INFORMATION: This notice is published to comply with the requirement of 25 CFR part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On November 10, 2010, the Assistant Secretary—Indian Affairs decided to accept an approximately 6.67-acre tract of land, consisting of nine (9) parcels, of land into trust for the Suquamish Tribe of Washington. The 6.67-acre tract of land parcel is located in Suquamish, Washington.

The land proposed for acquisition is described as follows:

That part of government lots 2 and 4, section 29, township 26 north, range 2 east, Willamette Meridian, Kitsap County, Washington, described as follows:

Parcels I through IX, inclusive, as shown on volume 72 of surveys, pages 226 through 234, inclusive, auditor's file No. 200907220134, records of Kitsap County, Washington; together with an easement 16 feet in width for access and utilities over portions of Government lot 2, said section 29, township 26 north, range 2 east, W.M., as established in instruments recorded on December 8, 195, under auditor's file Nos. 1117923 and 1117924, records of Kitsap County, Washington;

Situate in the County of Kitsap, State of Washington.

This notice is published in the exercise of authority delegated by the Secretary of the Interior to the Assistant Secretary—Indian Affairs by 209 Departmental Manual 8.1.

Dated: November 12, 2010.
Larry Echo Hawk,
Assistant Secretary—Indian Affairs.

[FR Doc. 2010-29387 Filed 11-19-10; 8:45 am]

BILLING CODE 4310-4N-P